DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing the names of one or more persons that have been placed on OFAC's Specially Designated Nationals and Blocked Persons List (SDN List) based on OFAC's determination that one or more applicable legal criteria were satisfied. All property and interests in property subject to U.S. jurisdiction of these persons are blocked, and U.S. persons are generally prohibited from engaging in transactions with them.

DATES: See SUPPLEMENTARY INFORMATION section for applicable date(s).

FOR FURTHER INFORMATION CONTACT: OFAC: Bradley T. Smith, Director, tel.: 202-622-2490; Associate Director for Global Targeting, tel.: 202-622-2420; Assistant Director for Licensing, tel.: 202-622-2480; Assistant Director for Regulatory Affairs, tel.: 202-622-4855; or the Assistant Director for Sanctions Compliance & Evaluation, tel.: 202-622-2490.

SUPPLEMENTARY INFORMATION:

Electronic Availability

The SDN List and additional information concerning OFAC sanctions programs are available on OFAC's website (https://www.treasury.gov/ofac).

Notice of OFAC Actions

On December 8, 2023, OFAC determined that the property and interests in property subject to U.S. jurisdiction of the following persons are blocked under the relevant sanctions authorities listed below.

Individuals

1. BOZIZE, Jean-Francis (a.k.a. BOZIZE, Jean Francis), Central African Republic; DOB 19 Feb 1970; POB Bangui, Central African Republic; nationality Central African Republic; citizen Central African Republic; alt. citizen France; Gender Male (individual) [CAR].

Designated pursuant to section 1(a)(ii)(A)(1) of Executive Order 13677 of May 13, 2014, “Blocking the Property of Certain Persons Contributing to the Conflict in the Central African Republic,” (E.O. 13667) 74 FR 28387 for being responsible for or complicit in, or to have engaged in, directly or indirectly, actions or policies that threaten the peace, security, or stability of the Central African Republic.

2. SALLEH ADOUM KETTE, Mahamat (a.k.a. “SALEH, Mahamat”; a.k.a. “SALLE, Mahamat”; a.k.a. “SALLEH, Mahamat”; a.k.a. “SALLEH, Mama”; a.k.a. “SALLET, Mahamar”), Central African Republic; DOB 1988; POB Bria, Haute-Kotto Prefecture, Central African Republic; nationality Central African Republic; Gender Male (individual) [CAR].

Designated pursuant to section 1(a)(ii)(A)(4) of E.O. 13667 for being responsible for or complicit in, or to have engaged in, directly or indirectly, the targeting of women, children, or any civilians through the commission of acts of violence (including killing, maiming, torture, or rape or other sexual violence), abduction, forced displacement, or attacks on schools, hospitals, religious sites, or locations where civilians are seeking refuge, or through conduct that would constitute a serious abuse or violation of human rights or a violation of international humanitarian law in or in relation to the Central African Republic.

Dated: December 8, 2023.
Bradley T. Smith,
Director, Office of Foreign Assets Control, U.S. Department of the Treasury.

[FR Doc. 2023-27454 Filed 12-13-23; 8:45 am]

BILLING CODE 4810-AL-P